DEPARTMENT OF HEALTH AND HUMAN SERVICES

National Institutes of Health

Center for Scientific Review; Amended Notice of Meeting

Notice is hereby given of a change in the meeting of the Center for Scientific Review Special Emphasis Panel, June 23, 2014, 8:30 a.m. to June 24, 2014, 6:00 p.m., Handlery Union Square Hotel, 351 Geary Street, San Francisco, CA 94102 which was published in the Federal Register on May 23, 2014, 79 FR 29787 pg. 29787.

The meeting will start on June 23, 2014 at 8:30 a.m. and end on June 23, 2014 at 6:00 p.m. The meeting location remains the same. The meeting is closed to the public.

Dated: June 11, 2014.
Michelle Trout,
Program Analyst, Office of Federal Advisory Committee Policy.

[FR Doc. 2014-14108 Filed 6-16-14; 8:45 am]

BILLING CODE 4140-01-P